DEPARTMENT OF HOMELAND SECURITY

Coast Guard

[Docket No. USCG-2012-0720]

Environmental Topics Related to the International Maritime Organization's Development of a Mandatory Code for Ships Operating in Polar Waters; Meeting

AGENCY: Coast Guard, DHS.

ACTION: Notice of meeting; request for comments.

SUMMARY: The United States Coast Guard will hold a public meeting in Washington, DC on environmental topics related to the development of a mandatory code for ships operating in polar waters by the International Maritime Organization (IMO Polar Code).

DATES: The public meeting will be held on Tuesday, August 28, 2012 from 9:30 a.m. to 4 p.m., EST, to provide an opportunity for oral comments. Written comments and related material may also be submitted to Coast Guard personnel specified at that meeting. All comments and related material submitted after the meeting must either be submitted to our online docket via http://www.regulations.gov on or before Friday, September 7, 2012 or reach the Docket Management Facility by that date.

ADDRESSES: The public meeting will be held at the United States Coast Guard Headquarters Transpoint Building, Room 2501, 2100 Second Street Southwest, Washington, DC 20593, approximately 1 mile from the Waterfront-SEU Metro Station. Due to building security requirements, each visitor must present two forms of government-issued photo identification in order to gain entrance to the building.

You may submit written comments identified by docket number USCG-2012-0720 before or after the meeting using any one of the following methods:

(1) http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. Our online docket is available on the Internet at http://www.regulations.gov under docket number USCG-2012-0720.

FOR FURTHER INFORMATION CONTACT: If you have questions concerning the meeting, please call or email Lieutenant Andrew Gibbons, U.S. Coast Guard; telephone 202-372-1485, email Andrew.T.Gibbons@uscg.mil. If you have questions on viewing or submitting material to the docket, call Ms. Renee V. Wright, Program Manager, Docket Operations, telephone 202-366-9826.

SUPPLEMENTARY INFORMATION:

Public Participation and Request for Comments

We encourage you to participate in this matter by submitting comments and related materials. All comments received will be posted without change to http://www.regulations.gov and will include any personal information you have provided.

A. Submitting Comments

If you submit a comment, please include the docket number for this notice (USCG-2012-0720) and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov and insert “USCG-2012-0720” in the “Search” box. Click “Search,” find this notice in the list of Results, and then click on the corresponding “Comment Now” box. If you submit your comments by mail or hand delivery, submit them in an unbound format, no larger than 8½ by 11 inches, suitable for copying and electronic filing. If you submit comments by mail and would like to know that they reached the Facility, please enclose a stamped, self-addressed postcard or envelope.

B. Viewing Comments and Documents

To view comments, as well as documents mentioned in this notice as being available in the docket, go to http://www.regulations.gov and insert “USCG-2012-0720” in the “Search” box. Click “Search” and use the filters on the left side of the page to highlight “Public Submissions” or other document types. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

The Coast Guard will hold a public meeting regarding environmental topics related to the development of the IMO Polar Code. The public meeting will be held on Tuesday, August 28, 2012 from 9:30 a.m. to 4 p.m., EST at the United States Coast Guard Headquarters Transpoint Building, Room 2501, 2100 Second Street Southwest, Washington, DC 20593, approximately 1 mile from the Waterfront-SEU Metro Station. Due to building security requirements, each visitor must present two forms of government-issued photo identification in order to gain entrance to the building.

The purpose of this public meeting is to discuss relevant topics for consideration in development of environmental sections of the IMO Polar Code. The public meeting will address additional risks and hazards unique to the Arctic and Antarctic regions and any additional safeguards to be considered in the environmental sections of the IMO Polar Code. The primary topics that will be considered at the public meeting include:

• International Convention for the Prevention of Pollution from Ships (MARPOL Annexes I-VI);

• International Convention for the Control and Management of Ships' Ballast Water and Sediments;

• International Convention on the Control of Harmful Anti-fouling Systems on Ships; and

• Other considerations including voyage planning, greywater, underwater noise, marine mammals, heavy grade fuel oil (HFO), and pollution response.

Procedural

Please note that the public meeting has a limited number of seats and may close early if all business is finished. Also, teleconferencing will be available. Those interested in teleconferencing should contact Lieutenant Andrew Gibbons at the telephone number or email address indicated under the FOR FURTHER INFORMATION CONTACT section of this notice. Summaries of comments made, materials presented, and lists of attendees will be available for viewing in the docket after the meeting.

Members of the public may attend this meeting up to the seating capacity of the room. To facilitate the security process related to building access, or to request reasonable accommodation, those who plan to attend should contact the meeting coordinator, Lieutenant Andrew Gibbons, at the telephone number or email address indicated under the FOR FURTHER INFORMATION CONTACT section of this notice, or in writing at Commandant (CG-ENG-3), U.S. Coast Guard, 2100 Second Street SW., Washington, DC 20593-7126, not later than Friday, August 17, 2012. We may not be able to accommodate requests made after August 17, 2012. Please note that due to building security requirements, each visitor must present two valid, government-issued photo identifications in order to gain entrance to the Coast Guard Headquarters building. The Coast Guard Headquarters building is accessible by taxi and privately owned conveyance (public transportation is not generally available). However, public parking in the vicinity of the building is extremely limited.

Members of the public are encouraged to participate and join in discussions, subject to the discretion of the moderator. If you bring written comments to the meeting, you may submit them to Coast Guard personnel specified at the meeting to receive written comments. These comments will be submitted to our online public docket. All comments received will be posted without change to http://www.regulations.gov and will include any personal information you have provided.

Information on Services for Individuals With Disabilities

For information on facilities or services for individuals with disabilities or to request special assistance at the meeting, contact Lieutenant Andrew Gibbons at the telephone number or email address indicated under the FOR FURTHER INFORMATION CONTACT section of this notice.

Dated: July 27, 2012.
J.G. Lantz,
Director of Commercial Regulations and Standards.

[FR Doc. 2012-19005 Filed 8-2-12; 8:45 am]

BILLING CODE 9110-04-P